DEPARTMENT OF THE TREASURY

Submission for OMB Review; Comment Request

November 22, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 29, 2005 to be assured of consideration.

Alcohol and Tobacco Tax and Trade Bureau (TTB)

OMB Number: 1513-0042.

Type of Review: Extension.

Title: Drawback on Distilled Spirits Exported.

Form: TTB form F 5110.30.

Description: TTB form 5110.30 is used by persons who export distilled spirits and wish to claim a drawback of taxes already paid in the United States (U.S.). The form describes the claimant, spirits for tax purposes, amount of tax to be refunded, and a certification by the U.S. Government agent attesting to exportation.

Respondents: Business or other for-profit.

Estimated Total Burden Hours: 10,000 hours.

Clearance Officer: Frank Foote (202) 927-9347, Alcohol and Tobacco Tax and Trade Bureau, Room 200 East, 1310 G. Street, NW., Washington, DC 20005.

OMB Reviewer: Alexander T. Hunt (202) 395-7316, Office of Management and Budget, Room 10235, New Executive Office Building, Washington, DC 20503.

Michael A. Robinson,
Treasury PRA Clearance Officer.

[FR Doc. E5-6672 Filed 11-28-05; 8:45 am]

BILLING CODE 4810-31-P